DEPARTMENT OF ENERGY

Federal Energy Regulatory Commission

[Docket No. RP96-200-100]

CenterPoint Energy Gas Transmission Company; Notice of Negotiated Rates

April 16, 2003.

Take notice that on April 1, 2003, CenterPoint Energy Gas Transmission Company (CEGT) tendered for filing as part of its FERC Gas Tariff, Sixth Revised Volume No. 1, the following tariff sheets to be effective April 1, 2003:

First Revised Sheet No. 859

First Revised Sheet No. 860

First Revised Sheet No. 862

First Revised Sheet No. 864

First Revised Sheet No. 883

Original Sheet No. 891

CEGT states that the purpose of this filing is to reflect implementation of a new negotiated rate transaction, and terminated or expired existing negotiated rate transactions.

Any person desiring to be heard or to protest said filing should file a motion to intervene or a protest with the Federal Energy Regulatory Commission, 888 First Street, NE., Washington, DC 20426, in accordance with Sections 385.314 or 385.211 of the Commission's Rules and Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 21, 2003.

Magalie R. Salas,
Secretary.

[FR Doc. 03-9907 Filed 4-21-03; 8:45 am]

BILLING CODE 6717-01-P